DEPARTMENT OF DEFENSE

[Docket ID: DoD-2014-OS-0132]

Proposed Collection; Comment Request

AGENCY: Office of the Under Secretary of Defense (Personnel and Readiness), DoD.

ACTION: Notice.

SUMMARY: In compliance with the Paperwork Reduction Act of 1995, the Office of the Under Secretary of Defense (Personnel and Readiness) announces the following proposed renewal of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense (Personnel and Readiness) Military Personnel Policy/Armed Forces Chaplains Board, ATTN: Brian A. Hodge, 4000 Defense Pentagon, Washington, DC 20301-4000 or call at (703) 697-9911.

SUPPLEMENTARY INFORMATION:

Title, Associated Form, and OMB Control Number: Statement of Ecclesiastical Endorsement; DD Form 2088; OMB Control Number: 0704-0190.

Needs and Uses: This information collection is necessary to provide certification that a Religious Ministry Professional is professionally qualified to become a chaplain.

Affected Public: Not-for-profit institutions.

Annual Burden Hours: 118 hours.

Number Of Respondents: 157.

Responses Per Respondent: 1.

Average Burden Per Response: 45 minutes.

Frequency: On Occasion; Annually.

The DD Form 2088 is used to verify the professional and ecclesiastical qualifications of Religious Ministry Professionals for initial appointment or chaplains change of career status appointments as chaplains in the Military Service. This form is an essential element of a chaplain's professional qualifications and will become a part of a chaplain's military personnel record. DoD listed endorsing agents utilize the form to endorse military chaplains representing their organizations.

Dated: August 26, 2014.
Aaron Siegel,
Alternate OSD Federal RegisterLiaison Officer, Department of Defense.

[FR Doc. 2014-20630 Filed 8-28-14; 8:45 am]

BILLING CODE 5001-06-P